DEPARTMENT OF HOMELAND SECURITY

National Counter-Improvised Explosive Device Capabilities Analysis Database

AGENCY: Office of Infrastructure Protection (IP), National Protection and Programs Directorate (NPPD), Department of Homeland Security (DHS).

ACTION: 30-Day Notice and request for comments; New Collection, 1670-NEW.

SUMMARY: DHS NPPD IP will submit the following information collection request (ICR) to the Office of Management and Budget (OMB) for review and clearance in accordance with the Paperwork Reduction Act of 1995. DHS previously published this information collection request (ICR) in the Federal Register on Thursday, August 16, 2018 for a 60-day public comment period. 0 comments were received by DHS. The purpose of this notice is to allow an additional 30 days for public comments. To provide greater transparency, NPPD is making an adjustment from the 60 day notice to show all related costs in the 30 day notice.

DATES: Comments are encouraged and will be accepted until December 27, 2018.

ADDRESSES: Interested persons are invited to submit written comments on the proposed information collection to the Office of Information and Regulatory Affairs, Office of Management and Budget. Comments should be addressed to OMB Desk Officer, Department of Homeland Security and sent via electronic mail to dhsdeskofficer@omb.eop.gov. All submissions must include the words “Department of Homeland Security” and the OMB Control Number 1670-NEW—National Counter-Improvised Explosive Device Capabilities Analysis Database.

Comments submitted in response to this notice may be made available to the public through relevant websites. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

FOR FURTHER INFORMATION CONTACT: For specific questions related to collection activities, please contact Jenny Margaros at 703.235.9381 or at JENNY.MARGAROS@HQ.DHS.GOV.

SUPPLEMENTARY INFORMATION: Under the Homeland Security Presidential Directive-19: Combating Terrorist Use of Explosives in the United States, DHS was mandated to have a regularly updated assessment of domestic explosives-related capabilities. It required DHS to expand its National Capabilities Analysis Database, which is now known as the National Counter-Improvised Explosive Device Capabilities Analysis Database (NCCAD). Currently, the President's Policy Directive-17: Countering Improvised Explosive Devices (PPD-17) reaffirms the 2007 Strategy for Combating Terrorist Use of Explosives in the United States. It provides guidance to update and gives momentum to our ability to counter threats involving improvised explosive devices (IEDs).

The NCCAD provides State, local, tribal and territorial law enforcement stakeholders a method to identify their level of capability to prevent, protect, mitigate, and respond to an IED threat. It also provides Federal stakeholders an overarching view of the Nation's collective counter-IED capabilities.

Information is collected by Office for Bombing Prevention (OBP) personnel and contractors. These individuals travel to locations across the Nation to gather the requisite information. OBP personnel and contractors facilitate initial baseline assessments either face-to-face or via webinar in order to get stakeholders familiar with the NCCAD system, provide clarifying information, and answer questions. Federal, State, local, tribal, and territorial law enforcement personnel with a counter-IED mission assist NCCAD personnel to coordinate a training location for personnel from the four disciplines (bomb squads, explosives detection canine, special weapons and tactics teams (SWAT), and dive units) to take their respective assessment. The OBP facilitator begins by conducting a short brief on the reasons for NCCAD and how it can help them as units.

The NCCAD assessments consists of a total of 56 tasks bundled into specific question sets spread across the four (4) disciplines representing specific tasks encompassing personnel, training, and equipment. The OBP and the NCCAD team used federal requirements (FEMA Resource Typing) to create the overarching list of questions in the question sets. Where there were no requirements, OBP and NCCAD worked with subject matter experts to identify best practices to create the assessments. Subject matter experts and Federal, State, local agency representatives collaborated to rank and stack each question and question set in order of importance and priority. At that time, weights were assigned to the questions, which provide the capability calculation for the whole question set.

The first group of questions in the assessment focus on the profile of the unit, i.e., the number of technicians/handlers; primary assignment versus collateral duty assignment; number of IED responses in the past twelve (12) months; number of special events in the past twelve (12) months. The rest of question sets are delineated by task: Implement Intelligence/Information Gathering and Dissemination; Implement Bombing Incident Prevention and Response Plans; Incident Analysis; Incident Mitigation; Access Threat Area; Contain or Mitigate Hazards; Conduct Scene Investigations; and Maintain Readiness.

Each discipline's questionnaire only includes question sets specific to that discipline. This means that while multiple disciplines may have the same question set title, the questions may not be the same. For example, the SWAT and canine questionnaires both have the question set, Maintain Readiness, however, only the canine questionnaire includes specific questions about leashes, water bowls, and kennels, as equipment needed to maintain readiness. This tailoring allows for a large question pool, while ensuring specificity depending on the discipline being assessed.

The information from each individual unit is collected into the database. Upon completion of inputting the unit information, the program, using the appropriate algorithms, creates a capabilities analysis report for the unit commander. The report identifies current capabilities, existing gaps, and makes recommendations for closing those gaps. Additionally, the NCCAD allows the unit commander to identify the most efficient and effective purchases of resources to close those gaps. At the State, regional, and National-levels, the data is aggregated within the selected discipline and provides a snapshot of the counter-IED capabilities across the discipline. OBP also intends to identify the lowest, highest, median, and average capability levels across units, States, regions, disciplines, and the Nation. This data will be used to provide snapshots of the C-IED capabilities and gaps to inform decision-makers on policy decisions, resource allocation for capability enhancement, and crisis management. Data collected will be used in readiness planning, as well as steady-state and crisis decision support during threats or incidents. NCCAD data will assist operational decision-makers and resource providers in developing investment justifications that support State homeland security strategies and national priorities.

The National Incident Management System (NIMS) Resource Typing assessment is a subset of the NCCAD assessment questions which identify the number and type of bomb response teams that a unit has based on its composition. There are seven tasks with a total of 32 questions. Resource Typing Definitions are used to categorize, by capability, the resources requested, deployed, and used in incidents. Measurable standards identifying resource capabilities and performance levels serve as the basis for this categorization. National NIMS resource types support a common language for the mobilization of resources (equipment, teams, units, and personnel) prior to, during, and after major incidents. Resource users at all levels use these definitions as a consistent basis when identifying and inventorying their resources for capability estimation, planning and for mobilization during mutual aid efforts. National NIMS resource types represent the minimum criteria for the associated component and capability.

All responses are collected via electronic means via the virtual assessment program. While the actual data collection is done through the NCCAD database through IP Gateway, OBP personnel facilitate the collection of the data by assisting users via a face-to-face discussion or webinar. This is particularly useful for first time users to understand the nuances of the NCCAD system and how they can use their assessment to help justify resource requests and help with steady-state and threat-initiated decision-making. It is NCCAD policy to not accept the questionnaires in paper format. If there is a power outage at the event site or if the website is down due to technical reasons, facilitators have copies of the paper format for stakeholders to continue filling out. Facilitators do not collect these hard copies. Stakeholders keep them to update the electronic assessment when they next access it. OBP is cutting down this possibility even more by beginning the utilization of tablets and hotspots for those individuals who do not have laptops or internet access.

This is a new information collection.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Title of Collection: National Counter-Improvised Explosive Device Capabilities Analysis Database.

OMB Control Number: 1670-NEW.

Frequency: Annually.

Affected Public: State, Local, Tribal, and Territorial Governments.

Number of Annualized Respondents: 2,717.

Estimated Time per Respondent: 2 hours.

Total Annualized Burden Hours: 3,735 hours.

Total Annualized Respondent Opportunity Cost: $161,839.

Total Respondent Out-of-Pocket Cost: $0.

Total Annualized Government Cost: $1,055,581.

Michael Dalmado,
Chief Information Security Officer.

[FR Doc. 2018-25868 Filed 11-26-18; 8:45 am]

BILLING CODE 9110-9P-P